FEDERAL COMMUNICATIONS COMMISSION

[DA 00-1596]

New Commission Registration System (CORES)

AGENCY: Federal Communications Commission.

ACTION: Notice.

SUMMARY: This document announces the New Commission Registration System (CORES). Starting July 19, 2000, the Commission will begin implementing (CORES). CORES is a registration system for entities filing applications or making payments with the Commission. CORES will assign a unique 10-digit FCC Registration Number (FRN) which can be obtained both on-line and manually. Over time, the FRN will be used by all Commission systems that handle financial, authorization of service, and enforcement activities. The use of the registration number is voluntary, although the Commission will consider making it mandatory in the future. FCC customers can access the on-line filing system or get further information on CORES by visiting the FCC's web site at www.fcc.gov and clicking on the CORES registration link. You may also file manually by completing and filing a FCC Form 160 (CORES Registration). Mailing instructions are found on Form 160. Wireless Telecommunications Bureau's Universal Licensing System registrants will receive a CORES registration number automatically by mail if they were registered prior to June 22, 2000.

DATES: The Commission Registration System (CORES) will be operational on July 19, 2000. The Commission will hold a public forum on July 31, 10 to 12 p.m.

ADDRESSES: The public forum will be held in the Commission Meeting Room at 445 12th Street, SW, Washington, DC.

FOR FURTHER INFORMATION CONTACT: To attend the public forum contact Tammy Watson at twatson@fcc.gov, or by calling (202) 418-0565. Individuals with disabilities who need accommodations for the July 31 public forum are asked to contact Brian Millin at access@fcc.gov, or by calling (202) 418-7426 voice, (202) 418-7365 TTY.

Andrew S. Fishel,
Managing Director.

[FR Doc. 00-18731 Filed 7-24-00; 8:45 am]

BILLING CODE 6712-01-P